DEPARTMENT OF TRANSPORTATION

Federal Aviation Administration

14 CFR Part 39

[Docket No. 2002-CE-31-AD]

RIN 2120-AA64

Airworthiness Directives; Cirrus Design Corporation Models SR20 and SR22 Airplanes

AGENCY: Federal Aviation Administration, DOT.

ACTION: Notice of proposed rulemaking (NPRM).

SUMMARY: This document proposes to supersede Airworthiness Directive (AD) 2002-05-05, which currently applies to certain Cirrus Design Corporation (Cirrus) Models SR20 and SR22 airplanes. AD 2002-05-05 currently requires you to incorporate temporary operating limitations into the Limitation Section of the airplane flight manual (AFM) for certain affected airplanes and install a cable clamp external to the cone adapter on the Cirrus Aircraft Parachute System (CAPS) activation cable for all affected airplanes. AD 2002-05-05 resulted from a report from the manufacturer that certain CAPS may not activate in an emergency situation. This proposed AD is the result of the manufacturer redesigning the CAPS activation system. This proposed AD would require you to modify the CAPS activation system. The actions specified by this proposed AD are intended to eliminate the chance of failure of the CAPS activation system in an emergency situation. Failure of this system could result in occupant injury and/or loss of life and loss of aircraft.

DATES: The Federal Aviation Administration (FAA) must receive any comments on this proposed rule on or before November 1, 2002.

ADDRESSES: Submit comments to FAA, Central Region, Office of the Regional Counsel, Attention: Rules Docket No. 2002-CE-31-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-31-AD” in the subject line. If you send comments electronically as attached electronic files, the files must be formatted in Microsoft Word 97 for Windows or ASCII text.

You may get service information that applies to this proposed AD from Cirrus Design Corporation, 4515 Taylor Circle, Duluth, MN 55811; telephone: (218) 727-2737. You may also view this information at the Rules Docket at the address above.

FOR FURTHER INFORMATION CONTACT: Gregory J. Michalik, Aerospace Engineer, FAA, Chicago ACO, 2300 East Devon Avenue, Des Plaines, IL 60018; telephone: (847) 294-7135; facsimile: (847) 294-7834.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule.

You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-31-AD.” We will date stamp and mail the postcard back to you.

Discussion

Has FAA Taken Any Action to This Point?

The FAA received a report from the type certificate holder that a condition existed that could cause the Cirrus Airplane Parachute System (CAPS) installed on certain Cirrus Design Corporation (Cirrus) Model SR20 and SR22 airplanes not to activate in the event of an emergency. Ballistic Recovery Systems (BRS), the supplier of the CAPS, discovered the condition during a supplemental type certificate (STC) certification test of the same unit on another airplane.

Investigation revealed that the rocket cone could allow for variance in the internal diameter at the threaded end of the rocket cone. This variance could result in the retaining nut internal to the cone adapter not to be fully secured on the affected parachutes. When the igniter end of the cable housing is unsecured, the cable will not pull the igniter pin free to release the parachute.

Section 23.221 of the Federal Aviation Regulations (14 CFR 23.221) requires that single-engine, normal category airplanes demonstrate compliance with either the one-turn spin recovery or the spin-resistant requirements. The airplane, for spin recovery compliance, must recover from a one-turn spin or a three-second spin, whichever takes longer, in not more than one additional turn after the controls have been applied for recovery. The Cirrus SR20/SR22 are not certificated to meet the spin recovery requirements or spin resistant requirements of 14 CFR 23.221. Instead, Cirrus installed an Airplane Parachute System (CAPS) that was FAA-approved as part of the SR20/SR22 type design.

Possible failure of the CAPS activation system in a emergency situation caused us to issue AD 2002-05-05, Amendment 39-12673 (67 FR 11220, March 13, 2002). AD 2002-05-05 requires the following:

—Incorporating temporary operating limitations into the Limitation Section of the airplane flight manual (AFM) for the airplanes with a CAPS that incorporates the process change; and

—Installing a cable clamp external to the cone adapter on the CAPS activation cable.

What Has Happened Since AD 2002-05-05 To Initiate This Action?

After further testing, Cirrus has made design changes to the whole CAPS activation system that now eliminates possible failure of the CAP activation system. Incorporation of the design changes eliminates the need for the actions of AD 2002-05-05.

Is There Service Information That Applies to This Subject?

Cirrus Design Corporation has issued the following service bulletins:

—Service Bulletin SB 20-95-03, Issued: June 10, 2002;

—Service Bulletin SB 20-95-04, Issued: July 10, 2002;

—Service Bulletin SB 20-95-05, Issued: July 10, 2002;

—Service Bulletin SB 20-95-05, Rev 1: dated August 14, 2002;

—Service Bulletin SB 22-95-03, Issued: June 10, 2002;

—Service Bulletin SB 22-95-04, Issued: July 10, 2002;

—Service Bulletin SB 22-95-05, Issued: July 10, 2002; and

—Service Bulletin SB 22-95-05, Rev 1: dated August 14, 2002;

What Are the Provisions of This Service Information?

These service bulletins include procedures for:

—Replacing the CAPS handle access cover;

—Replacing the CAPS activation handle bracket; and

—Replacing the CAPS activation cable.

The FAA's Determination and an Explanation of the Provisions of this Proposed AD

What Has FAA Decided?

After examining the circumstances and reviewing all available information related to the incidents described above, we have determined that:

—The unsafe condition referenced in this document exists or could develop on other Cirrus Model SR20 and SR22 airplanes of the same type design;

—The actions specified in the previously-referenced service information should be accomplished on the affected airplanes; and

—AD action should be taken in order to correct this unsafe condition.

What Would This Proposed AD Require?

This proposed AD would supersede AD 2002-05-05 with a new AD that would incorporate the actions in the previously-referenced service bulletins.

Cost Impact

How Many Airplanes Would This Proposed AD Impact?

We estimate that this proposed AD affects 391 airplanes in the U.S. registry.

What Would Be the Cost Impact of This Proposed AD on Owners/Operators of the Affected Airplanes?

We estimate the following costs to accomplish the proposed modification to the CAPS handle access cover:

Labor cost | Parts cost | Total cost per airplane | Total cost on U.S. operators
1 workhour × $60 per hour = $60 | $19 | $79 | $79 × 391 = $30,889

We estimate the following costs to accomplish the proposed modification to the CAPS activation handle bracket:

Labor cost | Parts cost | Total cost per airplane | Total cost on U.S. operators
2 workhours × $60 per hour = $120 | $7 | $127 | $127 × 391 = $49,657

We estimate the following costs to accomplish the proposed modification to the CAPS activation cable:

Total labor cost | Total parts cost | Total cost per airplane | Total cost on U.S. operators
3 workhours × $60 per hour = $180 | $320 | $500 | $500 × 391 = $195,500

We summarize the following estimated costs to accomplish the proposed modification to the CAPS activation system:

Labor cost | Parts cost | Total cost per airplane | Total cost on U.S. operators
6 workhours × $60 per hour = $360 | $346 | $706 | $706 × 391 = $276,046

The manufacturer will provide warranty credit for labor and parts to the extent noted under WARRANTY INFORMATION in each previously-referenced service bulletin.

Compliance Time of This Proposed AD

What Would be the Compliance Time of This Proposed AD?

The compliance time of this proposed AD is “within 90 days after the effective date of this AD, unless already accomplished.”

Why Is the Proposed Compliance Time Presented in Calendar Time Instead of Hours Time-in-Service (TIS)?

Failure of the CAPS is only unsafe during airplane operation; this unsafe condition is not a result of the number of times the airplane is operated. The chance of this situation occurring is the same for an airplane with 10 hours time-in-service (TIS) as it would be for an airplane with 500 hours TIS. For this reason, the FAA has determined that a compliance based on calendar time should be utilized in this AD in order to assure that the unsafe condition is addressed on all airplanes in a reasonable time period.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations(14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2002-05-05, Amendment 39-12673 (67 FR March 13, 2002), and by adding a new AD to read as follows:

Cirrus Design Corporation: Docket No. 2002-CE-31-AD; Supersedes AD 2002-05-05, Amendment 39-12673.

(a) What airplanes are affected by this AD? This AD affects the following airplane models and serial numbers that are certificated in any category:

Model | Serial No.
SR20 | 1005 through 1195.
SR22 | 0002 through 0209.

(b) Who must comply with this AD? Anyone who wishes to operate any of the airplanes identified in paragraph (a) of this AD must comply with this AD.

(c) What problem does this AD address? The actions specified by this AD are intended to eliminate the chance of failure of the Cirrus Aircraft Parachute System (CAPS) activation system in an emergency situation. Failure of this system could result in occupant injury and/or loss of life and loss of aircraft.

(d) What actions must I accomplish to address this problem? To address this problem, you must accomplish the following:

Actions | Compliance | Procedures
Modify the Cirrus Airframe Parachute System (CAPS) by replacing the CAPS handle access cover, the CAPS activation handle bracket, and the CAPS activation cable with parts of improved design | Within the next 90 days after effective date of this AD, unless already accomplished | In accordance with Cirrus Service Bulletin SB 20-95-03, Issued: June 10, 2002; Cirrus Service Bulletin SB 20-95-04, Issued: July 10, 2002; Cirrus Service Bulletin SB 20-95-05, Issued: June 10, 2002; Cirrus Service Bulletin SB 20-95-05, Rev 1: dated August 14, 2002; Cirrus Service Bulletin SB 22-95-03, Issued: June 10, 2002; Cirrus Service Bullentin SB 22-95-04, Issued: July 10, 2002; Cirrus Service Bullentin SB 22-95-05, Issued: July 10, 2002; and Cirrus Service Bulletin SB 22-95-05, Rev 1: dated August 14, 2002, as applicable.

Note 1: Cirrus Service Bulletin SB 20-95-05, Issued: July 10, 2002, on page 9 of 16, includes an incorrect compliance to SB 22-95-05 in step 15. The correct compliance should be to SB 20-95-05.

Note 2: Cirrus Service Bulletin SB 20-95-03, Issued: June 10, 2002, on page 2 of 2, includes an incorrect compliance to SB 22-95-03 in step 4. The correct compliance should be to SB 20-95-03.

(e) Can I comply with this AD in any other way?

(1) You may use an alternative method of compliance or adjust the compliance time if:

(i) Your alternative method of compliance provides an equivalent level of safety; and

(ii) The Manager, Chicago Aircraft Certification Office (ACO), approves your alternative. Submit your request through an FAA Principal Maintenance Inspector, who may add comments and then send it to the Manager, Chicago ACO.

(2) Alternative methods of compliance approved in accordance with AD 2002-05-05, which is superseded by this AD, are not approved as alternative methods of compliance with this AD.

Note 3: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Gregory J. Michalik, Aerospace Engineer, FAA, Chicago ACO, 2300 East Devon Avenue, Des Plaines, IL 60018; telephone: (847) 294-7135; facsimile: (847) 294-7834.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Cirrus Design Corporation, 4515 Taylor Circle, Duluth, MN 55811; telephone: (218) 727-2737. You may view these documents at FAA, Central Region, Office of the Regional Counsel, 901 Locust, Room 506, Kansas City, Missouri 64106.

(i) Does this AD action affect any existing AD actions? This amendment supersedes AD 2002-05-05, Amendment 39-12673.

Issued in Kansas City, Missouri, on August 21, 2002.
David R. Showers,
Acting Manager, Small Airplane Directorate, Aircraft Certification Service.

[FR Doc. 02-22001 Filed 8-28-02; 8:45 am]

BILLING CODE 4910-13-P